DEPARTMENT OF ENERGY

Federal Energy Regulatory Commission

18 CFR Part 375

[Docket No. RM03-5-000; Order No. 629]

Before Commissioners: Pat Wood, III, Chairman; William L. Massey, and Nora Mead Brownell; Amendment to Delegations of Authority to the Chief Administrative Law Judge

Issued January 29, 2003.

AGENCY: Federal Energy Regulatory Commission.

ACTION: Final rule.

SUMMARY: This Final Rule clarifies the authority of the Chief Administrative Law Judge (Chief ALJ) to establish procedural timelines in matters set for hearing. The change is necessary to avoid any confusion over the Chief ALJ's authority to set and extend time frames. It will benefit parties and the public by helping to ensure that matters set for hearing are processed efficiently.

EFFECTIVE DATE: The rule will become effective January 29, 2003.

FOR FURTHER INFORMATION CONTACT: Wilbur Miller, Office of General Counsel, 888 First Street, NE., Washington, DC 20426, (202) 502-8953, Wilbur.Miller@FERC.gov.

SUPPLEMENTARY INFORMATION: 1. This final rule clarifies the authority of the Chief Administrative Law Judge (Chief ALJ) to set and extend procedural time standards in matters set for hearing. Currently, the Chief ALJ designates each matter for one of several specified timetables depending on the complexity of the case. The timetables contain deadlines for such matters as hearings, briefing, and the initial decision. The Commission regards these time standards as critical to the efficient processing of matters assigned for hearing. More detailed information about the time standards is available on the Commission's Web site at www.ferc.gov/legal/oalj/standards.htm.

2. Some confusion may have arisen over the Chief ALJ's authority to establish time standards for individual cases.¹ This final rule is intended to eliminate any such confusion. Accordingly, it amends the Commission's delegations of authority to the Chief ALJ with respect to matters pending under 18 CFR part 385, subpart E. Specifically, this rule amends Part 375 of the Commission's regulations, which contains the Commission's delegations of authority to its staff, by adding to the Chief ALJ's delegations the authority to set and extend procedural time standards in matters in litigation unless the Commission states otherwise in its order setting a hearing.² The times set by the Chief ALJ are mandatory, not advisory, and need not be specifically authorized by the Commission in individual cases.

¹ See Midwest Independent System Operator, et al., Docket No. EL02-111-000, (Jan. 14, 2003) (Order Extending Briefing Schedule).

² See new 18 CFR 375.304(b)(1)(v) (2002).

3. The Commission is issuing this order as a final rule without a period for public comment. Under 5 U.S.C. 553(b), notice and comment procedures are unnecessary where a rulemaking concerns only agency procedure and practice, or where the agency finds that notice and comment is unnecessary. This rule concerns only matters of agency procedure and, in fact, makes no change to existing procedures. It thus will not significantly affect regulated entities or the general public. Therefore, the Commission finds notice and comment procedures to be unnecessary.

4. In addition, in accordance with 5 U.S.C. 553(d)(3), the Commission finds that good cause exists to make this Final Rule effective immediately upon issuance. As stated above, the rule clarifies rather than changes existing procedures. Therefore, no point would be served in making it effective at a later date.

Information Collection Statement

5. The Office of Management and Budget's (“OMB's”) regulations require that OMB approve certain information collection requirements imposed by agency rule.³ This Final Rule contains no information reporting requirements, and is not subject to OMB approval.

³ 5 CFR part 1320.

Environmental Analysis

6. The Commission is required to prepare an Environmental Assessment or an Environmental Impact Statement for any action that may have a significant adverse effect on the human environment.⁴ Issuance of this Final Rule does not represent a major federal action having a significant adverse effect on the human environment under the Commission's regulations implementing the National Environmental Policy Act.⁵ Part 380 of the Commission's regulations lists exemptions to the requirement that an Environmental Analysis or Environmental Impact Statement be done. Included is an exemption for procedural, ministerial or internal administrative actions.⁶ This rulemaking is exempt under that provision.

⁴ Order No. 486, Regulations Implementing the National Environmental Policy Act, 52 FR 47897 (Dec. 17, 1987), FERC Stats. & Regs. Preambles 1986-1990 ¶ 30,783 (1987).

⁵ Order No. 486, 52 FR 47897 (Dec. 17, 1987); FERC Stats. & Regs. [Regulations Preambles 1986-1990] ¶ 30,783 (Dec. 10, 1984) (codified at 18 CFR part 380).

⁶ 18 CFR 380.4(1) and (5).

Regulatory Flexibility Act Certification

7. The Regulatory Flexibility Act of 1980 (RFA) ⁷ generally requires a description and analysis of final rules that will have significant economic impact on a substantial number of small entities. The Commission certifies that this final rule will not have such an impact. An analysis under the RFA therefore is not required.

⁷ 5 U.S.C. 601-612.

Document Availability

8. In addition to publishing the full text of this document in the Federal Register, the Commission provides all interested persons an opportunity to view and/or print the contents of this document via the Internet through FERC's Home page (http://www.ferc.gov) and in FERC's Public Reference Room during normal business hours (8:30 a.m. to 5 p.m. Eastern time) at 888 First Street, NE., Room 2A, Washington, DC 20426.

9. From FERC's Home page on the Internet, this information is available in the Federal Energy Regulatory Records Information System (FERRIS). The full text of this document is available on FERRIS in PDF and WordPerfect format for viewing, printing, and/or downloading. To access this document in FERRIS, type the docket number excluding the last three digits of this document in the docket number field.

10. User assistance is available for FERRIS and the FERC's website during normal business hours. For assistance, contact FERC Online Support at FERCOnlineSupport@ferc.gov or toll-free at (866) 208-3676, or for TTY, contact (202) 502-8659.

Effective Date

11. This final rule is effective immediately upon issuance. Congressional review of Final Rules does not apply to this Final Rule, because the rule concerns agency procedure and practice and will not substantially affect the rights of non-agency parties.

List of Subjects in 18 CFR Part 375

Authority delegations (Government agencies), Seals and insignia, Sunshine Act.

By the Commission.
Magalie R. Salas,
Secretary.

In consideration of the foregoing, the Commission amends Part 375, Chapter I, Title 18, Code of Federal Regulations, as follows.

PART 375—THE COMMISSION

1. The authority citation for part 375 continues to read as follows:

Authority: 5 U.S.C. 551-557; 15 U.S.C. 717-717w, 3301-3432; 16 U.S.C. 791-825r, 2601-2645; 42 U.S.C. 7101-7352.

2. Section 375.304 is amended by revising paragraph (b)(1)(iv) and adding paragraph (b)(1)(v) to read as follows:

§ 375.304 Delegations to the Chief Administrative Law Judge

* * * * *

(b) * * *

(1) * * *

(iv) Extend any close or record date ordered by the Commission in a proceeding for good cause, and

(v) Set or extend procedural time standards, including but not limited to hearing, briefing and initial decision dates, including dates set by the Commission, unless the Commission states otherwise in its hearing order.

* * * * *

[FR Doc. 03-3115 Filed 2-7-03; 8:45 am]

BILLING CODE 6718-01-P